DEPARTMENT OF ENERGY

Federal Energy Regulatory Commission

[Docket No. RP02-339-000]

Transcontinental Gas Pipe Line Corporation; Notice of Filing

May 14, 2002.

Take notice that on May 1, 2002, Transcontinental Gas Pipe Line Corporation (Transco) submitted a motion for extension of time to comply with Order No. 587-N, until the date Transco implements its new business system, 1Line.

Transco states that the basis for the extension of time is related to its ongoing efforts to develop its new business system, 1Line and, in the interim, to avoid the allocation of substantial resources necessary to modify its existing system to comply with the Commission's directives. Transco requests an extension of time to comply with the first phase of the intraday recall requirement in Order No. 587-N until the implementation of 1Line on April 1, 2003. Transco contends that it is unable to modify its existing business systems to comply with the Commission's intraday recall provisions by July 1, 2002. Transco further asserts that it cannot manually comply with Order No. 587-N. Since Transco is in the process of developing a new business system 1Line, it requests an extension of time to comply with the first phase of Order No. 587-N until its new business system is implemented. Transco asserts that it anticipates 1Line will be implemented by April 1, 2003.

Any person desiring to be heard or to protest said filing should file a motion to intervene or a protest with the Federal Energy Regulatory Commission, 888 First Street, NE., Washington, DC 20426, in accordance with sections 385.214 or 385.211 of the Commission's rules and regulations. All such motions or protests must be filed on or before May 24, 2002. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-12525 Filed 5-17-02; 8:45 am]

BILLING CODE 6717-01-P